NATIONAL SCIENCE FOUNDATION

Notice of Permit Applications Received Under the Antarctic Conservation Act of 1978

AGENCY: National Science Foundation.

ACTION: Notice of Permit Applications Received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 26, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 671), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2023-014

1. Applicant

Kristin M. O'Brien, Institute of Arctic Biology, University of Alaska Fairbanks, Fairbanks, AK 99775.

Activity for Which Permit Is Requested

ASPA Entry, Import into the USA. This applicant would fish using benthic trawls and fish traps/pots in the Antarctic Peninsula region for capturing specimens to support studies of the physiology and biochemistry of Antarctic fishes with an emphasis on Channichthyid fishes. Collection of specimens would be carried out aboard the ARSV Laurence M. Gould and live specimens would be transported to aquarium facilities at Palmer Station for research purposes. Benthic Otter trawling will be restricted to areas with smooth bottom surfaces. The applicant plans to collect up to a total of 950 fish specimens from about 13 species. Frozen tissue samples would be imported to the home institution.

Location

APSA 152, Western Bransfield Strait; ASPA 153 Eastern Dallmann Bay.

Dates of Permitted Activities

March 1, 2023-September 1, 2023.

Erika N. Davis,
Program Specialist, Office of Polar Programs.

[FR Doc. 2022-20756 Filed 9-23-22; 8:45 am]

BILLING CODE 7555-01-P